DEPARTMENT OF HEALTH AND HUMAN SERVICES

National Institutes of Health

National Toxicology Program Board of Scientific Counselors; Announcement of Meeting; Request for Comments

AGENCY: National Institutes of Health, HHS.

ACTION: Notice.

SUMMARY: This notice announces the next meeting of the National Toxicology Program (NTP) Board of Scientific Counselors (BSC). The BSC, a federally chartered, external advisory group composed of scientists from the public and private sectors, will review and provide advice on programmatic activities. The meeting is open to the public and registration is requested for both attendance and oral comment and required to access the webcast. Information about the meeting and registration are available at http://ntp.niehs.nih.gov/go/165.

DATES:

Meeting: Scheduled for June 17, 2019 at 8:30 a.m. to adjournment on June 18, 2019 at approximately 2:30 p.m. Eastern Daylight Time (EDT).

Written Public Comment Submissions: Deadline is June 10, 2019.

Registration for Oral Comments: Deadline is June 10, 2019.

Registration to Attend Meeting In-person or to View Webcast: Deadline is June 18, 2019.

Registration to view the meeting via the webcast is required.

ADDRESSES:

Meeting Location: Rodbell Auditorium, Rall Building, National Institute of Environmental Health Sciences (NIEHS), 111 T.W. Alexander Drive, Research Triangle Park, NC 27709.

Meeting Webpage: The preliminary agenda, registration, and other meeting materials are at http://ntp.niehs.nih.gov/go/165.

Webcast: The URL for viewing the meeting webcast will be provided to registrants.

FOR FURTHER INFORMATION CONTACT: Dr. Mary Wolfe, Designated Federal Official for the BSC, Office of Liaison, Policy and Review, Division of NTP, NIEHS, P.O. Box 12233, K2-03, Research Triangle Park, NC 27709. Phone: 984-287-3209, Fax: 301-451-5759, Email: wolfe@niehs.nih.gov. Hand Deliver/Courier address: 530 Davis Drive, Room K2130, Morrisville, NC 27560.

SUPPLEMENTARY INFORMATION: The BSC will provide input to the NTP on programmatic activities and issues. The agenda on June 17 includes an update on status of NTP's strategic realignment with presentations by partner agencies on activities in support of NTP, as well as NTP's 40th anniversary recognition. On June 18, talks will focus on the new NTP Health Effects Innovation programs and reports on several meetings. Please see the preliminary agenda for information about the specific presentations. The preliminary agenda, roster of BSC members, background materials, public comments, and any additional information, when available, will be posted on the BSC meeting website (http://ntp.niehs.nih.gov/go/165) or may be requested in hardcopy from the Designated Federal Official for the BSC. Following the meeting, summary minutes will be prepared and made available on the BSC meeting website.

Meeting Attendance Registration: The meeting is open to the public with time set aside for oral public comment; in-person attendance at the NIEHS is limited by the space available (~100 attendees). Registration for in-person attendance is on a first-come, first-served basis, and registrants will be assigned a number in their confirmation email. After the first 100 registrants, persons will be placed on a wait list and notified should an opening become available. Registration to attend the meeting in-in person or view the webcast is by June 18, 2019 at http://ntp.niehs.nih.gov/go/165. Registration is required to view the webcast; the URL for the webcast will be provided in the email confirming registration. Visitor and security information for those attending in-person is available at niehs.nih.gov/about/visiting/index.cfm. Individuals with disabilities who need accommodation to participate in this event should contact Ms. Robbin Guy at phone: (984) 287-3136 or email: guyr2@niehs.nih.gov. TTY users should contact the Federal TTY Relay Service at 800-877-8339. Requests should be made at least five business days in advance of the event.

Written Public Comments: NTP invites written public comments. Guidelines for public comments are available at https://ntp.niehs.nih.gov/ntp/about_ntp/guidelines_public_comments_508.pdf.

The deadline for submission of written comments is June 10, 2019. Written public comments should be submitted through the meeting website. Persons submitting written comments should include name, affiliation, mailing address, phone, email, and sponsoring organization (if any). Written comments received in response to this notice will be posted on the NTP website, and the submitter will be identified by name, affiliation, and sponsoring organization (if any).

Oral Public Comment Registration: The agenda allows for formal public comment periods for several topics (2 commenters per topic, up to 5 minutes per speaker); oral comments may be presented in person at NIEHS or by teleconference line. Registration for oral comments is on or before June 10, 2019, at http://ntp.niehs.nih.gov/go/165. Registration is on a first-come, first-served basis, and registrants will be assigned a number in their confirmation email. Each organization is allowed one time slot per comment period. After the maximum number of speakers per comment period is exceeded, individuals registered to provide oral comment will be placed on a wait list and notified should an opening become available. Commenters will be notified after June 10, 2019, about the actual time allotted per speaker, and the teleconference number will be sent to those registered to give oral comments by teleconference line.

If possible, oral public commenters should send a copy of their slides and/or statement or talking points to NTP-Meetings@icf.com by June 10, 2019.

Meeting Materials: The preliminary meeting agenda is available on the meeting web page (http://ntp.niehs.nih.gov/go/165) and will be updated one week before the meeting. Individuals are encouraged to access the meeting web page to stay abreast of the most current information regarding the meeting.

Background Information on the BSC: The BSC is a technical advisory body comprised of scientists from the public and private sectors that provides primary scientific oversight to the NTP. Specifically, the BSC advises the NTP on matters of scientific program content, both present and future, and conducts periodic review of the program for the purpose of determining and advising on the scientific merit of its activities and their overall scientific quality. Its members are selected from recognized authorities knowledgeable in fields such as toxicology, pharmacology, pathology, biochemistry, epidemiology, risk assessment, carcinogenesis, mutagenesis, molecular biology, behavioral toxicology, neurotoxicology, immunotoxicology, reproductive toxicology or teratology, and biostatistics. Members serve overlapping terms of up to four years. The BSC usually meets biannually. The authority for the BSC is provided by 42 U.S.C. 217a, section 222 of the Public Health Service Act (PHS), as amended.

The BSC is governed by the provisions of the Federal Advisory Committee Act, as amended (5 U.S.C. app.), which sets forth standards for the formation and use of advisory committees.

Dated: April 23, 2019.
Brian R. Berridge,
Associate Director, National Toxicology Program.

[FR Doc. 2019-09101 Filed 5-2-19; 8:45 am]

BILLING CODE 4140-01-P